DEPARTMENT OF COMMERCE

International Trade Administration

A-570-912

New Pneumatic Off-the-Road Tires from the People's Republic of China: Initiation of New Shipper Review

AGENCY: Import Administration, International Trade Administration, Department of Commerce.

EFFECTIVE DATE: November 2, 2009.

SUMMARY: The Department of Commerce (the “Department”) has determined that a request for a new shipper review of the antidumping duty order on new pneumatic off-the-road tires from the People's Republic of China (“PRC”), received on September 30, 2009, meets the statutory and regulatory requirements for initiation. The period of review (“POR”) of this new shipper review is February 20, 2008, through August 31, 2009.

FOR FURTHER INFORMATION CONTACT: John Hollwitz or Charles Riggle, AD/CVD Operations, Office 8, Import Administration, International Trade Administration, U.S. Department of Commerce, 14th Street and Constitution Avenue, NW., Washington, DC 20230; telephone: (202) 482-2336 and (202) 482-0650, respectively.

SUPPLEMENTARY INFORMATION:

Background

The notice announcing the antidumping duty order on new pneumatic off-;the-road tires from the PRC was published in the Federal Register on September 4, 2008. See Certain New Pneumatic Off-the-Road Tires From the People's Republic of China: Notice of Amended Final Affirmative Determination of Sales at Less Than Fair Value and Antidumping Duty Order, 73 FR 51624 (September 4, 2008). On September 30, 2009, we received a timely request for a new shipper review from Yituo Orient Good Friend Tyre Co., Ltd. (“Yituo”) in accordance with 19 CFR 351.214(c) and 351.214(d). Yituo has certified that it produced all of the new pneumatic off-the-road tires it exported which is the basis for its request for a new shipper review.

Pursuant to the requirements set forth in 19 CFR 351.214(b)(2)(i)(d), 19 CFR 351.214(b)(2)(ii) and 19CFR 351.214(b)2(iii), in its request for a new shipper review, Yituo, as an exporter and producer, certified that (1) it did not export new pneumatic off-the-road tires to the United States during the period of investigation (“POI”); (2) since the initiation of the investigation, Yituo has never been affiliated with any company that exported subject merchandise to the United States during the POI; and (3) its export activities were not controlled by the central government of the PRC.

In accordance with 19 CFR 351.214(b)(2)(iv), Yituo submitted documentation establishing the following: (1) the date on which it first shipped new pneumatic off-;the-road tires for export to the United States and the date on which the new pneumatic off-the-road tires were first entered, or withdrawn from warehouse, for consumption; (2) the volume of its first shipment; and (3) the date of its first sale to an unaffiliated customer in the United States.

Initiation of New Shipper Review

Pursuant to section 751(a)(2)(B) of the Tariff Act of 1930, as amended (the “Act”) and 19 CFR 351.214(d)(1), we find that the request submitted by Yituo meets the threshold requirements for initiation of a new shipper review for shipments of new pneumatic off-the-road tires from the PRC produced and exported by Yituo. See Memorandum to the File through Wendy Frankel, Office Director, New Shipper Initiation Checklist, dated concurrently with this notice. The POR is February 20, 2008, through August 31, 2009. See 19 CFR 351.214(g)(1)(i)(A). The Department will conduct this review according to the deadlines set forth in section 751(a)(2)(B)(iv) of the Act.

It is the Department's usual practice, in cases involving non-market economies, to require that a company seeking to establish eligibility for an antidumping duty rate separate from the country-wide rate provide evidence of de jure and de facto absence of government control over the company's export activities. Accordingly, we will issue questionnaires to Yituo, which will include separate rate sections. The review will proceed if the response provides sufficient indication that Yituo is not subject to either de jure or de facto government control with respect to its export of new pneumatic off-the-road tires.

We will instruct U.S. Customs and Border Protection to allow, at the option of the importer, the posting, until the completion of the review, of a bond or security in lieu of a cash deposit for each entry of the subject merchandise from Yituo in accordance with section 751(a)(2)(B)(iii) of the Act and 19 CFR 351.214(e). Because Yituo certified that it both produced and exported the subject merchandise, the sale of which is the basis for this new shipper review request, we will apply the bonding privilege to Yituo only for subject merchandise which Yituo both produced and exported.

Interested parties requiring access to proprietary information in this new shipper review should submit applications for disclosure under administrative protective order in accordance with 19 CFR 351.305 and 19 CFR 351.306.

This initiation and notice are in accordance with section 751(a)(2)(B) of the Act and 19 CFR 351.214 and 19 CFR 351.221(c)(1)(i).

Dated: October 27, 2009.
John M. Andersen,
Acting Deputy Assistant Secretary for Antidumping and Countervailing Duty Operations.

[FR Doc. E9-26292 Filed 10-30-09; 8:45 am]

BILLING CODE 3510-DS-S